DEPARTMENT OF HEALTH AND HUMAN SERVICES

Substance Abuse and Mental Health Services Administration

Notice of Meeting for the Interdepartmental Serious Mental Illness Coordinating Committee (ISMICC)

AGENCY: Substance Abuse and Mental Health Services Administration, HHS.

ACTION: Notice.

SUMMARY: The Secretary of Health and Human Services (Secretary), in accordance with section 6031 of the 21st Century Cures Act, announces a meeting of the Interdepartmental Serious Mental Illness Coordinating Committee (ISMICC). The meeting will be held virtually by webcast.

DATES: The ISMICC will meet on December 14, 2017, from 10:30 a.m. to 12:00 p.m., Eastern Daylight Time.

SUPPLEMENTARY INFORMATION: The meeting will focus on the Report to Congress that includes information on federal advances related to serious mental illness (SMI) and serious emotional disturbance (SED), including data evaluation, and recommendations for action. Members of the public can attend the meeting via telephone or webcast. The meeting can be accessed via webcast at www.hhs.gov/live. To obtain the call-in number and access code, submit written or brief oral comments, or request special accommodations for persons with disabilities, please visit the SAMHSA Advisory Committees Web page at https://www.samhsa.gov/about-us/advisory-councils/smi-committee or contact Pamela Foote, Designated Federal Official (see contact information below).

Interested persons may present data, information, or views, orally or in writing, on issues pending before the committee. Written statements should be submitted to the DFO on or before November 30, 2017. Oral presentations from the public will be scheduled at the conclusion of the meeting. Individuals interested in making oral presentations must notify the DFO on or before November 30, 2017. Two minutes will be allotted for each presentation as time permits. Substantive meeting information and a roster of Committee members is available at the Committee's Web site https://www.samhsa.gov/about-us/advisory-councils/smi-committee or by contacting Pamela Foote, DFO.

Committee Name: Interdepartmental Serious Mental Illness Coordinating Committee

Dates/Time/Type: Thursday, December 14, 2017, 10:30 a.m. 12:00 p.m./OPEN

Place: Webcast and teleconference (see information above).

Contact: Pamela Foote, Designated Federal Official, Substance Abuse and Mental Health Services Administration, 5600 Fishers Lane, Room14E53C, Rockville, MD 20857, Telephone: 240-276-1279, Fax: 301-480-8491, Email: ismicc@samhsa.hhs.gov.

Background and Authority

The ISMICC was established on March 15, 2017, in accordance with section 6031 of the 21st Century Cures Act, and the Federal Advisory Committee Act, 5 U.S.C. App., as amended, to report to the Secretary, Congress, and any other relevant federal department or agency on advances in serious mental illness (SMI) and serious emotional disturbance (SED), research related to the prevention of, diagnosis of, intervention in, and treatment and recovery of SMIs, SEDs, and advances in access to services and support for adults with SMI or children with SED. In addition, the ISMICC will evaluate the effect federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1(one) year after the date of enactment of the 21st Century Cures Act, and 5 (five) years after such date of enactment, the ISMICC shall submit a report to Congress and any other relevant federal department or agency.

This ISMICC consists of federal members listed below or their designees, and non-federal public members.

A roster of Committee members is available at the Committee's Web site: https://www.samhsa.gov/about-us/advisory-councils/smi-committee

The ISMICC is required to meet twice per year.

Carlos Castillo,
Committee Management Officer.

[FR Doc. 2017-24876 Filed 11-16-17; 8:45 am]

BILLING CODE 4162-20-P